NATIONAL ARCHIVES AND RECORDS ADMINISTRATION

36 CFR Part 1253

RIN 3095-AB57

[Docket NARA-08-0001]

Locations and Hours; Changes in NARA Research Room Hours

AGENCY: National Archives and Records Administration (NARA).

ACTION: Interim final rule; request for comment.

SUMMARY: NARA is revising its regulations to increase the number of hours its archival research rooms are open in the Washington, DC, area. At the beginning of fiscal year (FY) 2007, NARA reduced the extended hours that these research rooms were open to the public because of fiscal constraints. For the FY 2008 NARA budget, the Congress has provided funding to increase the hours. This regulation will affect individuals who use our archival research rooms in the National Archives Building and National Archives at College Park facility. This rule also adds the Nixon Presidential Library and revises the address of our Fort Worth facility to our list of research facilities.

DATES: This interim final rule is effective April 14, 2008. Comments on this interim final rule must be received by March 17, 2008 at the address shown below. Any changes to the rule resulting from this comment period will be made as soon as practicable after the April 14, 2008 effective date.

ADDRESSES: NARA invites interested persons to submit comments on this interim final rule. Comments may be submitted by any of the following methods:

• Federal eRulemaking Portal: http://www.regulations.gov. Follow the instructions for submitting comments.

• Fax: Submit comments by facsimile transmission to 301-837-0319.

• Mail: Send comments to Regulations Comments Desk (NPOL), Room 4100, Policy and Planning Staff, National Archives and Records Administration, 8601 Adelphi Road, College Park, MD 20740-6001.

• Hand Delivery or Courier: Deliver comments to 8601 Adelphi Road, College Park, MD.

FOR FURTHER INFORMATION CONTACT: Nancy Allard at 301-837-1477 or Jennifer Davis Heaps at 301-837-1801 or via fax number 301-837-0319.

SUPPLEMENTARY INFORMATION: A discussion of the changes we are making in this rule follows.

Research Room Hours in DC Area Facilities

The FY 2008 NARA Budget in the Consolidation Appropriations Act of 2007 signed by President Bush on December 26, 2007, includes $1.3 million to restore evening and Saturday hours in the research rooms in the National Archives Building and the National Archives at College Park (Archives II). Prior to October 1, 2006, these research rooms were open three evenings per week (Tuesday, Thursday, and Friday) and every Saturday. Under this interim final rule, the research rooms will be open from 9 a.m. to 5 p.m. on Monday, Tuesday, and Saturday. On Wednesday, Thursday, and Friday they will be open from 9 a.m. to 9 p.m. We decided to make this adjustment to the previous schedule so that out-of-town researchers will have consecutive evenings along with Saturday to work. This schedule will also make staffing the rooms easier for managers. We set the effective date of the new hours as April 14, 2008 to allow time to hire and train the additional research room staff and to adjust the terms of the security guard contract.

When we restore evening hours our researchers will need to have records provided to them late in the afternoon. We will provide the additional service of pulling records from the stacks at 3:30 p.m. on the three weekdays that we are open in the evening. As was the case prior to October 2006, there will be no records pulled on Saturday.

Other Changes in This Rule

In § 1253.3, we are adding the address and contact information for the Richard Nixon Presidential Library and Museum, which became a NARA Presidential Library on July 11, 2007. In § 1253.6(i), we have revised the address and contact information for the Fort Worth Federal Records Center, which moved to a new location in 2007.

Waiver of Proposed Rulemaking

The issuance of an “interim final rule” may be followed under the “good-cause” exemption of 5 U.S.C. 553(b)(3)(B) as “impracticable” or “contrary to the public interest.” In this instance, good cause exists because delay in implementation of the new hours would be contrary to the public interest and the intent of the Congress.

Regulatory Impact

This rule is not a significant regulatory action for the purposes of Executive Order 12866 and has not been reviewed by the Office of Management and Budget. As required by the Regulatory Flexibility Act, I certify that this rule will not have a significant impact on a substantial number of small entities because it affects individual researchers. This regulation does not have any federalism implications.

List of Subjects in 36 CFR Part 1253

Archives and records.

For the reasons set forth in the preamble, NARA amends chapter XII of title 36, Code of Federal Regulations, as follows:

PART 1253—LOCATION OF NARA FACILITIES AND HOURS OF USE

1. The authority citation for part 1253 continues to read as follows:

Authority: 44 U.S.C. 2104(a).

2. Amend § 1253.1 by revising paragraph (a) to read as follows:

§ 1253.1 National Archives Building.

(a) The National Archives Building is located at 700 Pennsylvania Avenue, NW., Washington, DC 20408. Business hours are 8:45 a.m. to 5:15 p.m., Monday through Friday, except Federal holidays when the building is closed. Hours for the Research Center and the Central Research room are as follows:

(1) Monday and Tuesday, 9 a.m. to 5 p.m.;

(2) Wednesday, Thursday, and Friday, 9 a.m. to 9 p.m.; and

(3) Saturday, 9 a.m. to 5 p.m.

* * * * *

3. Amend § 1253.2 by revising paragraph (b) to read as follows:

§ 1253.2 National Archives at College Park.

* * * * *

(b) Research complex hours are as follows, except Federal holidays:

(1) Monday and Tuesday, 9 a.m. to 5 p.m.;

(2) Wednesday, Thursday, and Friday, 9 a.m. to 9 p.m.; and

(3) Saturday, 9 a.m. to 5 p.m.

* * * * *

4. Amend § 1253.3 by redesignating paragraphs (g) through (k) as paragraphs (h) through (l) respectively, and adding a new paragraph (g) to read as follows:

§ 1253.3 Presidential Libraries.

* * * * *

(g) Richard Nixon Library, California is located at 18001 Yorba Linda Boulevard, Yorba Linda, CA 92886-3903. The phone number is 714-983-9120 and the fax number is 714-983-9111. The e-mail address is nixon@nara.gov. The Richard Nixon Library, Maryland is located at 8601 Adelphi Road, College Park, MD 20740-6001. The phone number is 301-837-3290 and the fax number is 301-837-3202. The e-mail address is nixon@nara.gov.

* * * * *

5. Amend § 1253.6 by revising paragraph (i) to read as follows:

§ 1253.6 Records Centers.

* * * * *

(i) NARA—Southwest Region (Fort Worth) is located at 1400 John Burgess Drive, Fort Worth, Texas 76140. The hours are 8 a.m. to 4:30 p.m., Monday through Friday. The telephone number is 817-551-2000.

* * * * *

Dated: January 28, 2008.
Allen Weinstein,
Archivist of the United States.

[FR Doc. E8-1947 Filed 1-31-08; 8:45 am]

BILLING CODE 7515-01-P